DEPARTMENT OF TRANSPORTATION

Federal Aviation Administration

Notice of Opportunity for Public Comment on Grant Acquired Property Release at Fulton County Airport—Brown Field, Atlanta, GA

AGENCY: Federal Aviation Administration (FAA), DOT.

ACTION: Notice.

SUMMARY: Under the provisions of Title 49, U.S.C. Section 47153(c), notice is being given that the FAA is considering a request from Fulton County to waive the requirement that approximately 10.59 acres of airport property adjacent to Fulton Industrial Blvd. to be used for aeronautical purposes.

DATES: Comments must be received on or before February 21, 2008.

ADDRESSES: Comments on this notice may be mailed or delivered in triplicate to the FAA at the following address: Atlanta Airports District Office, Attn: Chuck Garrison, Program Manager, 1701 Columbia Ave., Suite 2-260, College Park, GA 30337.

In addition, one copy of any comments submitted to the FAA must be mailed or delivered to Doug Barrett, Airport Manager, Fulton County Airport at the following address: Fulton County Airport—Brown Field, 3952 Aviation Circle, Rm. 200 Terminal Building, Atlanta, Georgia 30336.

FOR FURTHER INFORMATION CONTACT: Chuck Garrison, Program Manager, Atlanta Airports District Office, 1701 Columbia Ave., Suite 2-260, College Park, GA 30337, (404) 305-7162. The application may be reviewed in person at this same location.

SUPPLEMENTARY INFORMATION: the FAA is reviewing a request by Fulton County to release approximately 10.59 acres of airport property adjacent to Fulton Industrial Blvd. at the Fulton County Airport. The property consists of Fulton Industrial Blvd. frontage across 10 parcels roughly located on the west side of the airport. This property is currently shown on the approved Airport Layout Plan as aeronautical use land; however the property is currently not being used for aeronautical purposes and the proposed use of this property is compatible with airport operations. Fulton County will ultimately transfer the property to the Georgia Department of Transportation for right of ways and permanent construction easements associated with the widening of Fulton Industrial Blvd. in exchange for airport development.

Any person may inspect the request in person at the FAA office listed above under FOR FURTHER INFORMATION CONTACT. In addition, any person may, upon request, inspect the request, notice and other documents germane to the request in person at the Fulton County Airport.

Issued in Atlanta, Georgia on December 13, 2007.
Scott L. Serritt,
Manager, Atlanta Airports District Office, Southern Region.

[FR Doc. 08-210 Filed 1-18-08; 8:45 am]

BILLING CODE 4910-13-M